DEPARTMENT OF HEALTH AND HUMAN SERVICES

National Institutes of Health

National Institute of Environmental Health Sciences; Notice of Meeting

Pursuant to section 10(a) of the Federal Advisory Committee Act, as amended (5 U.S.C. App.), notice is hereby given of a meeting of the Interagency Breast Cancer and Environmental Research Coordinating Committee.

The meeting will be open to the public, with attendance limited to space available. Individuals who plan to attend and need special assistance, such as sign language interpretation or other reasonable accommodations, should notify the Contact Person listed below in advance of the meeting.

Name of Committee: Interagency Breast Cancer and Environmental Research Coordinating Committee.

Date: September 30-October 1, 2010.

Time: 8:30 a.m. to 3:30 p.m.

Agenda: The purpose of the meeting is to initiate the work of the Committee, which is to share and coordinate information on existing research activities, and to make recommendations to the National Institutes of Health and other Federal agencies regarding how to improve existing research programs related to breast cancer and the environment.

Place: JW Marriott, 1313 Pennsylvania Avenue, NW., Washington, DC 20004.

Contact Person: Gwen W. Collman, PhD, Acting Director, Division of Extramural Research and Training, National Institute of Environmental Health Sciences, 615 Davis Dr., KEY615/3112, Research Triangle Park, NC 27709. (919) 541-4980. collman@niehs.nih.gov.

Any member of the public interested in presenting oral comments to the committee should submit their remarks in writing at least 10 days in advance of the meeting. Comments in document format (i.e. WORD, Rich Text, PDF) may be uploaded via the following Web site: https://www.cmpinc.net/IBCERCC. Alternatively, comments may be submitted via e-mail to the Contact Person listed on this notice. You do not need to attend the meeting in order to submit comments.

Interested individuals and representatives of organizations may submit a letter of intent, a brief description of the organization represented, and a short description of the oral comments you wish to present. Only one representative per organization may be allowed to present oral comments and if accepted by the committee, presentations may be limited to five minutes. Both printed and electronic copies are requested for the record. The statement should include the name, address, telephone number and, when applicable, the business or professional affiliation of the interested person. Oral comments will begin at approximately 4:15 p.m. on Thursday, September 30, 2010. Although time will not be allotted for comments on Friday, October 1, 2010, members of the public are welcome to attend the entire meeting.

Anyone who wishes to attend the meeting and/or submit comments to the committee is asked to RSVP via the following Web site: https://www.cmpinc.net/IBCERCC. All comments are delivered to the Contact Person listed on this notice.

(Catalogue of Federal Domestic Assistance Program Nos. 93.115, Biometry and Risk Estimation— Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: September 8, 2010.
Jennifer S. Spaeth,
Director, Office of Federal Advisory Committee Policy.

[FR Doc. 2010-22830 Filed 9-13-10; 8:45 am]

BILLING CODE 4140-01-P